DEPARTMENT OF TRANSPORTATION

Federal Aviation Administration

[Summary Notice No. PE-2001-07]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption part 11 of Title 14, Code of Federal Regulations (14 CFR part 11), this notice contains a summary of certain petitions seeking relief from specified requirements of 14 CFR, dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before February 20, 2001.

ADDRESSES: Send comments on any petitions in triplicate to: Federal Aviation Administration, Office of the Chief Counsel, Attn: Rule Docket (AGC-200), Petition Docket No.___, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Forest Rawls (202) 267-8033, or Vanessa Wilkins (202) 267-8029 Office of Rulemaking (ARM-1), Federal Aviation Administration, 800 Independence Avenue, SW., Washington, DC 20591.

This notice is published pursuant to §§ 11.85 and 11.91.

Issued in Washington, DC, on January 25, 2001.
Donald P. Byrne,
Assistant Chief Counsel for Regulations.

Petitions for Exemption

Docket No.: 29725.

Petitioner: Federal Express Corporation.

Section of the FAR Affected: 14 CFR 121.417(c)(2)(i).

Description of Relief Sought: To provide relief from the requirement for each flight crewmember to perform certain emergency drills and operate certain emergency equipment once every 24 months during recurrent training.

Disposition of Petitions

Docket No.: 27802.

Petitioner: Richmor Aviation, Inc.

Section of the 14 CFR Affected: 14 CFR 21.197(c)(2).

Description of Relief Sought/Disposition: To permit Richmor to receive a special flight permit with continuing authorization to conduct ferry flights on aircraft with nine or fewer passenger seats.

Denial, 01/10/01, Exemption No. 7419

Docket No.: 29849.

Petitioner: The Boeing Company.

Section of the 14 CFR Affected: 14 CFR 21.325(b)(3).

Description of Relief Sought/Disposition: To permit Boeing to issue export airworthiness approvals for Class II and Class III products manufactured in Japan by Jamco Corporation as an approved supplier to Boeing under Boeing's PC No. 700.

Grant, 01/03/01, Exemption No. 7420

Petition for Exemption

Docket No.: 29725.

Petitioner: Federal Express Corporation.

Regulations Affected: § 121.417(c)(2)(i).

Description of Petition: To provide relief from the requirement for each flight crewmember to perform certain emergency drills and operate certain emergency equipment once every 24 months during recurrent training.

[FR Doc. 01-2557 Filed 1-29-01; 8:45 am]

BILLING CODE 4910-13-M